DEPARTMENT OF STATE

[Public Notice 9349]

In the Matter of the Designation of Nasir al-Wahishi as a Specially Designated Global Terrorist Pursuant to Section 1(b) of Executive Order 13224, as Amended

In accordance with section 1(b) of Executive Order 13224 of September 23, 2001, as amended (“the Order”), I hereby determine that the individual known as Nasir al-Wahishi, also known as other aliases and transliterations, no longer meets the criteria for designation under the Order, and therefore I hereby revoke the designation of the aforementioned individual as a Specially Designated Global Terrorist pursuant to section 1(b) of the Order.

This notice shall be published in the Federal Register.

Dated: November 3, 2015.
John F. Kerry,
Secretary of State.

[FR Doc. 2015-29620 Filed 11-18-15; 8:45 am]

BILLING CODE 4710-AD-P